DEPARTMENT OF HOMELAND SECURITY

Coast Guard

[USCG-2003-16814]

Discharge of Dry Cargo Residues in the Great Lakes

AGENCY: Coast Guard, DHS.

ACTION: Notice.

SUMMARY: The Coast Guard gives notice that Congressional authorization of the United States 1997 enforcement policy (enforcement policy) relating to the incidental discharge of dry cargo residue on the Great Lakes expires on September 30, 2004, and that the study of that policy mandated by Congress has been completed. If new regulations are not in place by September 30, 2004, the enforcement policy will expire, and the current statute, which prohibits such discharges, will become effective October 1, 2004, and will be enforced by the Coast Guard. Although the Coast Guard is initiating a rulemaking regarding the discharge of dry cargo residue on the Great Lakes, it is improbable that any such rulemaking would be completed before the expiration of the enforcement policy.

DATES: The interim enforcement policy discussed in this notice expires September 30, 2004. Enforcement in accordance with current statutes will begin October 1, 2004.

ADDRESSES: Any comments or material received from the public in regard to this notice, as well as documents mentioned in the notice as being available in the public docket, are part of docket USCG-2003-16814 and may be viewed online at http://dms.dot.gov or at the Docket Management Facility, U.S. Department of Transportation, room PL-401, 400 Seventh Street SW., Washington, DC between 9 a.m. and 5 p.m. Monday through Friday, except Federal holidays.

FOR FURTHER INFORMATION CONTACT: If you have questions relating to the substance of this notice call LCDR Mary Sohlberg, U.S. Coast Guard, telephone 202-267-0713. If you have questions on viewing the docket, call Andrea M. Jenkins, Program Manager, Docket Operations, Department of Transportation, telephone 202-366-0271.

SUPPLEMENTARY INFORMATION: The historical practice of bulk dry cargo vessels on the Great Lakes is to wash non-hazardous and non-toxic cargo residues (“dry cargo residue” or “cargo sweepings”) overboard. In 1987, Congress amended the Act to Prevent Pollution from Ships (APPS; see Pub. L. 100-220, sec. 2002; see also 33 U.S.C. 1901 et seq.), adopting Annex V to the International Convention for the Prevention of Pollution from Ships (MARPOL), 1973. Under MARPOL interpretive guidelines, dry cargo residues and cargo sweepings are considered to be garbage. Strict application of the MARPOL interpretive guideline adopted the following year (33 CFR part 151) banned the discharge of dry cargo residue and cargo sweepings in the Great Lakes.

To ease the difficult implementation issues that application of the MARPOL guidelines would create within the unique legal, environmental, and economic framework of the Great Lakes, the Ninth Coast Guard District implemented in 1993 an “enforcement policy” (CCGD9INST 16460.1) that has been revised over the years and reissued in 1995 and in 1997. The 1997 policy is the current practice in place in the Great Lakes. The Coast Guard was directed by Congress in the 1998 Coast Guard Authorization Bill to continue its current policy regarding dry cargo residues on the Great Lakes until 2002. This authorization was subsequently extended until September 30, 2004, in Public Law 106-554, sec. 1117, pending completion of a study and formulation of a specific regulatory solution to the issue. Unless new regulations adopt elements of the enforcement policy, the Coast Guard has concluded that we have no authority to extend the enforcement policy on our own, beyond the September 2004 deadline. The Coast Guard contracted the completion of the study and has received the study report on discharge of vessel dry cargo residues mandated by Congress in Public Law 106-554. The study is available at http://dms.dot.gov.

Because of the effects on U.S. flag commercial shipping on the Great Lakes of a ban on dry cargo residues discharges, that study, among other things, recommended that the current practice of allowing vessels to discharge their incidental cargo residues into certain portions of the Great Lakes be continued, but, citing the lack of available data, also recommended that an Environmental Assessment be performed of the long term effects of continuing that practice. We intend to initiate a rulemaking and, as part of the rulemaking process, perform an Environmental Assessment in conjunction with other regulatory assessments. The analyses would assist in determining whether the regulations regarding the discharge of dry cargo residues in the Great Lakes should reflect past practice, prohibit discharges altogether, or allow for some other course of action, taking into account all the circumstances and stakeholder interests. If new regulations are not in effect by September 30, 2004, the Coast Guard will enforce the existing statutes commencing October 1, 2004.

Dated: January 7, 2004.
Joseph J. Angelo,
Director of Standards, Marine Safety, Security & Environmental Protection.

[FR Doc. 04-590 Filed 1-8-04; 4:56 pm]

BILLING CODE 4910-15-P